DEPARTMENT OF TRANSPORTATION

Federal Aviation Administration

14 CFR Part 39

[Docket No. FAA-2024-1003; Project Identifier MCAI-2023-00712-T; Amendment 39-22837; AD 2024-18-03]

RIN 2120-AA64

Airworthiness Directives; Bombardier, Inc., Airplanes

AGENCY: Federal Aviation Administration (FAA), DOT.

ACTION: Final rule.

SUMMARY: The FAA is superseding Airworthiness Directive (AD) 2023-11-01, which applied to certain Bombardier, Inc., Model BD-100-1A10 airplanes. AD 2023-11-01 required a records check and replacement of affected left-hand (LH) direct current power center (DCPC) units. AD 2023-11-01 also provided optional terminating action for the records check and replacement. This AD was prompted by multiple reports of erratic electrical system status on the push button annunciators (PBAs) and the engine instrument and crew alerting system (EICAS) while on-ground and during flight, and by the determination that certain DCPC units require additional modification or replacement. This AD requires checking maintenance records of certain airplanes, replacing certain DCPC units, and modifying certain DCPC units. This AD also expands the applicability of AD 2023-11-01 and prohibits the installation of affected parts. The FAA is issuing this AD to address the unsafe condition on these products.

DATES: This AD is effective November 12, 2024.

The Director of the Federal Register approved the incorporation by reference of certain publications listed in this AD as of November 12, 2024.

The Director of the Federal Register approved the incorporation by reference of certain other publications listed in this AD as of August 15, 2023 (88 FR 44042, July 11, 2023).

ADDRESSES:

AD Docket: You may examine the AD docket at regulations.gov under Docket No. FAA-2024-1003; or in person at Docket Operations between 9 a.m. and 5 p.m., Monday through Friday, except Federal holidays. The AD docket contains this final rule, the mandatory continuing airworthiness information (MCAI), any comments received, and other information. The address for Docket Operations is U.S. Department of Transportation, Docket Operations, M-30, West Building Ground Floor, Room W12-140, 1200 New Jersey Avenue SE, Washington, DC 20590.

Material Incorporated by Reference:

• For Bombardier material identified in this AD, contact Bombardier Business Aircraft Customer Response Center, 400 Côte-Vertu Road West, Dorval, Québec H4S 1Y9, Canada; telephone 514-855-2999; email ac.yul@aero.bombardier.com; website bombardier.com.

• You may view this material at the FAA, Airworthiness Products Section, Operational Safety Branch, 2200 South 216th St., Des Moines, WA. For information on the availability of this material at the FAA, call 206-231-3195. It is also available at regulations.gov under Docket No. FAA-2024-1003.

FOR FURTHER INFORMATION CONTACT: Steven Dzierzynski, Aviation Safety Engineer, FAA, 1600 Stewart Avenue, Suite 410, Westbury, NY 11590; telephone 516-228-7300; email 9-avs-nyaco-cos@faa.gov.

SUPPLEMENTARY INFORMATION:

Background

The FAA issued a notice of proposed rulemaking (NPRM) to amend 14 CFR part 39 to supersede AD 2023-11-01, Amendment 39-22446 (88 FR 44042, July 11, 2023) (AD 2023-11-01). AD 2023-11-01 applied to certain Bombardier, Inc., Model BD-100-1A10 airplanes. AD 2023-11-01 required a records check and replacement of affected LH DCPC units, and provided optional terminating action for those actions. The FAA issued AD 2023-11-01 to address erratic indications, which could cause the flight crew to turn off fully-operational electrical power sources, leading to partial or complete loss of electrical power resulting in loss of flight displays and reduced controllability of the airplane.

The NPRM published in the Federal Register on April 26, 2024 (89 FR 32380). The NPRM was prompted by AD CF-2023-35, dated May 26, 2023, issued by Transport Canada, which is the aviation authority for Canada (Transport Canada AD CF-2023-35) (also referred to as the MCAI). The MCAI states that airplanes could experience misleading electrical system status indications (PBA and EICAS) as a result of contamination of electrical contacts in the LH DCPC internal communication data bus.

In the NPRM, the FAA proposed to continue to require checking the airplane records and replacement of affected LH DCPC units. The NPRM also proposed to require modification of certain LH DCPC units, prohibit installation of affected parts, and expand the applicability of AD 2023-11-01. The FAA is issuing this AD to address the unsafe condition on these products.

You may examine the MCAI in the AD docket at regulations.gov under Docket No. FAA-2024-1003.

Discussion of Final Airworthiness Directive

Comments

The FAA received a comment from Bombardier, Inc. (Bombardier), who also stated its support for the NPRM. The following presents the comment received on the NPRM and the FAA's response to that comment.

Request To Extend the Compliance Time

Bombardier requested that the proposed AD be revised to extend the proposed compliance time to March 31, 2026. Bombardier asserted that, due to changes made in the airplane flight manual (AFM), which introduced the “Unexpected Electrical Indications” procedure instructing pilots not to act on erratic indications related to the electrical power generation and distribution system, the medium risk was mitigated and the severity of a misleading indication event was lowered from potentially catastrophic to major. Even if such events still occur after the implementation of Bombardier Service Bulletins 100-24-30 and 350-24-005, following implementation of the AFM revision, Bombardier considers these events a reliability issue and stated its commitment to work with the supplier to correct the effects of such events. Bombardier further asserted that, when analyzed in conjunction with the probability of occurrence, the risk becomes low. Additionally, Bombardier attested that, based on its provisions, a shorter compliance time will create additional pressure on the U.S. operators, exposing them to a potential grounding scenario, necessitating the need for Bombardier to apply for an alternative method of compliance (AMOC) to support this AD.

The FAA disagrees with the request. Bombardier provided no substantiating data to support the need for an extension of the proposed compliance time. In developing an appropriate compliance time for this action, the FAA considered the safety implications, the time necessary to accomplish the required actions, the availability of required parts, and normal maintenance schedules for timely accomplishment of the required actions. Considering these items, the FAA has determined that the specified compliance time, as proposed, is appropriate to ensure an acceptable level of safety. The FAA has not changed this AD because of this comment. However, under the provisions of paragraph (m)(1) of this AD, the FAA will consider requests for approval of alternative compliance times if sufficient data are submitted to substantiate that the change would provide an acceptable level of safety.

Conclusion

This product has been approved by the aviation authority of another country and is approved for operation in the United States. Pursuant to the FAA's bilateral agreement with this State of Design Authority, it has notified the FAA of the unsafe condition described in the MCAI referenced above. The FAA reviewed the relevant data, considered the comment received, and determined that air safety requires adopting this AD as proposed. Accordingly, the FAA is issuing this AD to address the unsafe condition on this product. Except for minor editorial changes, this AD is adopted as proposed in the NPRM. None of the changes will increase the economic burden on any operator.

Material Incorporated by Reference Under 1 CFR Part 51

The FAA reviewed Bombardier Service Bulletins 100-24-29 and 350-24-004, both Revision 01, both dated July 27, 2023. This material specifies procedures for a records check to determine the total flight hours and replacement of affected LH DCPC units (part numbers 975GC02Y04, 975GC0Y05, 975GC02Y06, and 975GC02Y07). These documents are distinct since they apply to different airplane configurations.

The FAA also reviewed Subject 24-61-01 DC Power Center (DCPC)—Removal/Installation, Chapter 24—Electrical Power, Bombardier Challenger 300 Aircraft Maintenance Manual, Part Two, Publication No. CH 300 AMM, Revision 82, dated November 9, 2023, which specifies:

• procedures for removing DCPC units in Task 24-61-01-000-801 Removal of the DC Power Center (DCPC);

• procedures for installing DCPC units in Task 24-61-01-400-801 Installation of the DC Power Center (DCPC); and

• procedures for testing DCPC units in Task 24-61-01-720-801 Functional Test of the DC Power Center (DCPC).

For obtaining these tasks for the Bombardier Challenger 300 Aircraft Maintenance Manual, Part Two, Publication No. CH 300 AMM, use Document Identification No. CH 300 AMM.

The FAA also reviewed Subject 24-61-01 DC Power Center (DCPC)—Removal/Installation, Chapter 24—Electrical Power, Bombardier Challenger 350 Aircraft Maintenance Manual, Part Two, Publication No. CH 300 AMM, Revision 38, dated November 9, 2023, which specifies:

• procedures for removing DCPC units in Task 24-61-01-000-801 Removal of the DC Power Center (DCPC);

• procedures for installing DCPC units in Task 24-61-01-400-801 Installation of the DC Power Center (DCPC); and

• procedures for testing DCPC units in Task 24-61-01-720-801 Functional Test of the DC Power Center (DCPC).

For obtaining these tasks for the Bombardier Challenger 350 Aircraft Maintenance Manual, Part Two, Publication No. CH 350 AMM, use Document Identification No. CH 350 AMM.

This AD would also require the following material, which the Director of the Federal Register approved for incorporation by reference as of August 15, 2023 (88 FR 44042, July 11, 2023).

• Bombardier Service Bulletin 100-24-29, dated April 9, 2021.

• Bombardier Service Bulletin 100-24-30, dated November 29, 2022.

• Bombardier Service Bulletin 350-24-004, dated April 9, 2021.

• Bombardier Service Bulletin 350-24-005, dated November 29, 2022.

This material is reasonably available because the interested parties have access to it through their normal course of business or by the means identified in the ADDRESSES section.

Costs of Compliance

The FAA estimates that this AD affects 356 airplanes of U.S. registry.

The FAA estimates the following costs to comply with this AD:

Estimated Costs for Required Actions
Action | Labor cost | Parts cost | Cost per product | Cost on U.S. operators
Records check | 1 work-hours × $85 per hour = $85 | $0 | $85 | $30,260
New actions (modification) | 2 work-hours × $85 per hour = $170 | 0 | 170 | 60,520

The FAA estimates the following costs to do any necessary on-condition actions that would be required based on the results of any required actions. The FAA has no way of determining the number of aircraft that might need this on-condition action:

Estimated Costs of On-Condition Actions
Labor cost | Parts cost | Cost per product
7 work-hours × $85 per hour = $595 | Up to $35,000 | Up to $35,595.

According to the manufacturer, some or all of the costs of this AD may be covered under warranty, thereby reducing the cost impact on affected operators. The FAA does not control warranty coverage for affected operators. As a result, the FAA has included all known costs in the cost estimate.

Authority for This Rulemaking

Title 49 of the United States Code specifies the FAA's authority to issue rules on aviation safety. Subtitle I, section 106, describes the authority of the FAA Administrator. Subtitle VII: Aviation Programs, describes in more detail the scope of the Agency's authority.

The FAA is issuing this rulemaking under the authority described in Subtitle VII, Part A, Subpart III, Section 44701: General requirements. Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

Regulatory Findings

This AD will not have federalism implications under Executive Order 13132. This AD will not have a substantial direct effect on the States, on the relationship between the national government and the States, or on the distribution of power and responsibilities among the various levels of government.

For the reasons discussed above, I certify that this AD:

(1) Is not a “significant regulatory action” under Executive Order 12866,

(2) Will not affect intrastate aviation in Alaska, and

(3) Will not have a significant economic impact, positive or negative, on a substantial number of small entities under the criteria of the Regulatory Flexibility Act.

List of Subjects in 14 CFR Part 39

Air transportation, Aircraft, Aviation safety, Incorporation by reference, Safety.

The Amendment

Accordingly, under the authority delegated to me by the Administrator, the FAA amends 14 CFR part 39 as follows:

PART 39—AIRWORTHINESS DIRECTIVES

1. The authority citation for part 39 continues to read as follows:

Authority: 49 U.S.C. 106(g), 40113, 44701.

§ 39.13 [Amended]

2. The FAA amends § 39.13 by:

a. Removing Airworthiness Directive (AD) 2023-11-01, Amendment 39-22446 (88 FR 44042, July 11, 2023); and

b. Adding the following new AD:

2024-18-03 Bombardier, Inc.: Amendment 39-22837; Docket No. FAA-2024-1003; Project Identifier MCAI-2023-00712-T.

(a) Effective Date

This airworthiness directive (AD) is effective November 12, 2024.

(b) Affected ADs

This AD replaces AD 2023-11-01, Amendment 39-22446 (88 FR 44042, July 11, 2023) (AD 2023-11-01).

(c) Applicability

This AD applies to all Bombardier, Inc., Model BD-100-1A10 airplanes, certificated in any category.

(d) Subject

Air Transport Association (ATA) of America Code 24, Electrical Power.

(e) Unsafe Condition

This AD was prompted by multiple reports of erratic electrical system status on the push button annunciators (PBAs) and the engine instrument and crew alerting system (EICAS) while on-ground and during flight, and by the determination that certain direct current power center (DCPC) units require additional modification or replacement. The FAA is issuing this AD to address erratic indications, which could cause the flightcrew to turn off fully operational electrical power sources, leading to partial or complete loss of electrical power. The unsafe condition, if not addressed, could result in loss of flight displays and reduced controllability of the airplane.

(f) Compliance

Comply with this AD within the compliance times specified, unless already done.

(g) Records Check

For any left-hand (LH) DCPC unit having part number (P/N) 975GC02Y04, 975GC02Y05, 975GC02Y06, or 975GC02Y07 that was not cleaned before the effective date of this AD as specified in Safran Service Bulletin 975GC02Y-24-018 or replaced before the effective date of this AD as specified in Bombardier Service Bulletin 100-24-29 or Bombardier Service Bulletin 350-24-004: Within 60 days after the effective date of this AD, verify the total flight hours of the LH DCPC unit since the date of manufacture by doing a records check in accordance with paragraph 2.B.(1) of the Accomplishment Instructions of the applicable service bulletin identified in paragraphs (g)(1) and (2) of this AD.

(1) For airplanes having serial numbers 20001 through 20500 inclusive, use Bombardier Service Bulletin 100-24-29, dated April 9, 2021; or Revision 01, dated July 27, 2023. As of the effective date of this AD, use only Bombardier Service Bulletin 100-24-29, Revision 01, dated July 27, 2023.

(2) For airplanes having serial numbers 20501 through 20999 inclusive, use Bombardier Service Bulletin 350-24-004, dated April 9, 2021; or Revision 01, dated July 27, 2023. As of the effective date of this AD, use only Bombardier Service Bulletin 350-24-004, Revision 01, dated July 27, 2023.

(h) Replacement of the LH DCPC

If, during the records check required by paragraph (g) of this AD, the total flight hours since date of manufacture of the LH DCPC unit is equal to or more than 3,500 total flight hours as of the effective date of this AD, and the LH DCPC was not previously cleaned as specified in Safran Service Bulletin 957GC02Y-24-018, or replaced as specified in Bombardier Service Bulletin 100-24-29 or Bombardier Service Bulletin 350-24-004: Within 12 months after the effective date of this AD, remove, replace with LH DCPC P/N 975GC02Y08, test the DCPC logic and protection cards, and do the functional test for the LH DCPC unit, in accordance with the applicable service information specified in paragraphs (h)(1) through (8) of this AD. If any test fails, do corrective actions, and repeat the test before further flight until the test passes.

(1) Task 24-61-01-000-801 Removal of the DC Power Center (DCPC), Subject 24-61-01 DC Power Center (DCPC)—Removal/Installation, Chapter 24—Electrical Power, Bombardier Challenger 300 Aircraft Maintenance Manual, Part Two, Publication No. CH 300 AMM, Revision 82, dated November 9, 2023.

(2) Task 24-61-01-000-801 Removal of the DC Power Center (DCPC), Subject 24-61-01 DC Power Center (DCPC)—Removal/Installation, Chapter 24—Electrical Power, Bombardier Challenger 350 Aircraft Maintenance Manual, Part Two, Publication No. CH 350 AMM, Revision 38, dated November 9, 2023.

(3) Task 24-61-01-400-801 Installation of the DC Power Center (DCPC), Subject 24-61-01 DC Power Center (DCPC)—Removal/Installation, Chapter 24—Electrical Power, Bombardier Challenger 300 Aircraft Maintenance Manual, Part Two, Publication No. CH 300 AMM, Revision 82, dated November 9, 2023.

(4) Task 24-61-01-400-801 Installation of the DC Power Center (DCPC), Subject 24-61-01 DC Power Center (DCPC)—Removal/Installation, Chapter 24—Electrical Power, Bombardier Challenger 350 Aircraft Maintenance Manual, Part Two, Publication No. CH 350 AMM, Revision 38, dated November 9, 2023.

(5) For airplanes having serial number 20001 through 20500 inclusive, use paragraph 2.D. of the Accomplishment Instructions of Bombardier Service Bulletin 100-24-30, dated November 29, 2022.

(6) For airplanes having serial number 20501 through 20999 inclusive, use paragraph 2.D. of the Accomplishment Instructions of Bombardier Service Bulletin 350-24-005, dated November 29, 2022.

(7) Task 24-61-01-720-801 Functional Test of the DC Power Center (DCPC), Subject 24-61-01 DC Power Center (DCPC)—Adjustment/Test, Chapter 24—Electrical Power, Bombardier Challenger 300 Aircraft Maintenance Manual, Part Two, Publication No. CH 300 AMM, Revision 82, dated November 9, 2023.

(8) Task 24-61-01-720-801 Functional Test of the DC Power Center (DCPC), Subject 24-61-01 DC Power Center (DCPC)—Adjustment/Test, Chapter 24—Electrical Power, Bombardier Challenger 350 Aircraft Maintenance Manual, Part Two, Publication No. CH 350 AMM, Revision 38, dated November 9, 2023.

(i) Exception to the Service Information

Although the note in paragraph 2.B.(4) of the Accomplishment Instructions of Bombardier Service Bulletin 100-24-29, dated April 9, 2021, and Revision 01, dated July 27, 2023; and Bombardier Service Bulletin 350-24-004, dated April 9, 2021, and Revision 01, dated July 27, 2023, specify that actions will reset “the unit total flight hours to zero at date of incorporation,” this AD does not include that requirement.

(j) Modification

For LH DCPC P/N 975GC02Y07 units that were cleaned before the effective date of this AD as specified in Safran Service Bulletin 975GC02Y-24-018, or replaced before the effective date of this AD as specified in Bombardier Service Bulletin 100-24-29 or Bombardier Service Bulletin 350-24-004: Within 12 months after the effective date of this AD, modify each LH DCPC P/N 975GC02Y07 into LH DCPC P/N 975GC02Y08, in accordance with paragraph 2.C. of the Accomplishment Instructions of the applicable service bulletin identified in paragraph (j)(1) or (2) of this AD. Before further flight after the modification, test the DCPC logic and protection cards in accordance with paragraph 2.D. of the Accomplishment Instructions of the applicable service bulletin identified in paragraph (j)(1) or (2) of this AD, and do the functional test for the LH DCPC unit, in accordance with the applicable service information specified in paragraph (j)(3) or (4) of this AD. If any test fails, do corrective actions, and repeat the test before further flight until the test passes.

(1) For airplanes having serial number 20001 through 20500 inclusive, use Bombardier Service Bulletin 100-24-30, dated November 29, 2022.

(2) For airplanes having serial number 20501 through 20999 inclusive, use Bombardier Service Bulletin 350-24-005, dated November 29, 2022.

(3) Task 24-61-01-720-801 Functional Test of the DC Power Center (DCPC), Subject 24-61-01 DC Power Center (DCPC)—Adjustment/Test, Chapter 24—Electrical Power, Bombardier Challenger 300 Aircraft Maintenance Manual, Part Two, Publication No. CH 300 AMM, Revision 82, dated November 9, 2023.

(4) Task 24-61-01-720-801 Functional Test of the DC Power Center (DCPC), Subject 24-61-01 DC Power Center (DCPC)—Adjustment/Test, Chapter 24—Electrical Power, Bombardier Challenger 350 Aircraft Maintenance Manual, Part Two, Publication No. CH 350 AMM, Revision 38, dated November 9, 2023.

(k) Replacement of Certain LH DCPC P/N 975GC02Y04, 975GC02Y05, and 975GC02Y06

For LH DCPC P/N 975GC02Y04, 975GC02Y05, and 975GC02Y06 that were cleaned before the effective date of this AD as specified in Safran Service Bulletin 975GC02Y-24-018, or replaced before the effective date of this AD as specified in Bombardier Service Bulletin 100-24-29 or Bombardier Service Bulletin 350-24-004: Within 12 months after the effective date of this AD, remove, replace with LH DCPC P/N 975GC02Y08, test the DCPC logic and protection cards, and do the functional test for the LH DCPC unit, in accordance with the applicable material specified in paragraphs (h)(1) through (8) of this AD. If any test fails, do corrective actions, and repeat the test before further flight until the test passes.

(l) Parts Installation Prohibition

As of 60 days from the effective date of this AD, it is prohibited to install an LH DCPC with P/N 975GC02Y04, 975GC02Y05, 975GC02Y06, or 975GC02Y07, on any airplane.

(m) Additional AD Provisions

(1) Alternative Methods of Compliance (AMOCs): The Manager, International Validation Branch, FAA, has the authority to approve AMOCs for this AD, if requested using the procedures found in 14 CFR 39.19. In accordance with 14 CFR 39.19, send your request to your principal inspector or responsible Flight Standards Office, as appropriate. If sending information directly to the manager of the International Validation Branch, mail it to the address identified in paragraph (n) of this AD. Information may be emailed to: 9-AVS-NYACO-COS@faa.gov.

(2) Contacting the Manufacturer: For any requirement in this AD to obtain instructions from a manufacturer, the instructions must be accomplished using a method approved by the Manager, International Validation Branch, FAA; or Transport Canada; or Bombardier, Inc.'s Transport Canada Design Approval Organization (DAO). If approved by the DAO, the approval must include the DAO-authorized signature.

(n) Additional Information

For more information about this AD, contact Steven Dzierzynski, Aviation Safety Engineer, FAA, 1600 Stewart Avenue, Suite 410, Westbury, NY 11590; telephone 516-228-7300; email 9-avs-nyaco-cos@faa.gov.

(o) Material Incorporated by Reference

(1) The Director of the Federal Register approved the incorporation by reference (IBR) of the material listed in this paragraph under 5 U.S.C. 552(a) and 1 CFR part 51.

(2) You must use this material as applicable to do the actions required by this AD, unless this AD specifies otherwise.

(3) The following material was approved for IBR on November 12, 2024.

(i) Bombardier Service Bulletin 100-24-29, Revision 01, dated July 27, 2023.

(ii) Bombardier Service Bulletin 350-24-004, Revision 01, dated July 27, 2023.

(iii) Subject 24-61-01 DC Power Center (DCPC)—Removal/Installation, Chapter 24—Electrical Power, Bombardier Challenger 300 Aircraft Maintenance Manual, Part Two, Publication No. CH 300 AMM, Revision 82, dated November 9, 2023:

(A) Task 24-61-01-000-801 Removal of the DC Power Center (DCPC);

(B) Task 24-61-01-400-801 Installation of the DC Power Center (DCPC); and

(C) Task 24-61-01-720-801 Functional Test of the DC Power Center (DCPC).

Note 1 to paragraph (o)(3)(iii): For obtaining the tasks specified in the Bombardier Challenger 300 Aircraft Maintenance Manual, Part Two, Publication No. CH 300 AMM, use Document Identification No. CH 300 AMM.

(iv) Subject 24-61-01 DC Power Center (DCPC)—Removal/Installation, Chapter 24—Electrical Power, Bombardier Challenger 350 Aircraft Maintenance Manual, Part Two, Publication No. CH 350 AMM, Revision 38, dated November 9, 2023:

(A) Task 24-61-01-000-801 Removal of the DC Power Center (DCPC);

(B) Task 24-61-01-400-801 Installation of the DC Power Center (DCPC); and

(C) Task 24-61-01-720-801 Functional Test of the DC Power Center (DCPC).

Note 2 to paragraph (o)(3)(iv): For obtaining the tasks specified in the Bombardier Challenger 350 Aircraft Maintenance Manual, Part Two, Publication No. CH 350 AMM, use Document Identification No. CH 350 AMM.

(4) The following material was approved for IBR on August 15, 2023 (88 FR 44042, July 11, 2023).

(i) Bombardier Service Bulletin 100-24-29, dated April 9, 2021.

(ii) Bombardier Service Bulletin 100-24-30, dated November 29, 2022.

(iii) Bombardier Service Bulletin 350-24-004, dated April 9, 2021.

(iv) Bombardier Service Bulletin 350-24-005, dated November 29, 2022.

(5) For Bombardier material identified in this AD, contact Bombardier Business Aircraft Customer Response Center, 400 Côte-Vertu Road West, Dorval, Québec H4S 1Y9, Canada; telephone 514-855-2999; email ac.yul@aero.bombardier.com; website bombardier.com.

(6) You may view this material at the FAA, Airworthiness Products Section, Operational Safety Branch, 2200 South 216th St., Des Moines, WA. For information on the availability of this material at the FAA, call 206-231-3195.

(7) You may view this material at the National Archives and Records Administration (NARA). For information on the availability of this material at NARA, visit www.archives.gov/federal-register/cfr/ibr-locations or email fr.inspection@nara.gov.

Issued on September 3, 2024.
Victor Wicklund,
Deputy Director, Compliance & Airworthiness Division, Aircraft Certification Service.

[FR Doc. 2024-23113 Filed 10-7-24; 8:45 am]

BILLING CODE 4910-13-P